SECURITIES AND EXCHANGE COMMISSION

[File No. 500-1]

RVPlus, Inc.; Order of Suspension of Trading

July 19, 2013.

It appears to the Securities and Exchange Commission that there is a lack of current and accurate information concerning the securities of RVPlus, Inc. (“RVPL”) because of questions regarding: (1) the adequacy of current financial information available about RVPL; (2) the accuracy of RVPL's periodic financial filings, including reported accounts receivable, assets and operations; and (3) assertions by RVPL in press releases to investors. RVPL is a Delaware corporation based in Jersey City, New Jersey and is traded under the symbol “RVPL.”

The Commission is of the opinion that the public interest and the protection of investors require a suspension of trading in the securities of the above-listed company.

Therefore, it is ordered, pursuant to Section 12(k) of the Securities Exchange Act of 1934, that trading in the securities of the above-listed company is suspended for the period from 9:30 a.m. EDT, on July 19, 2013 through 11:59 p.m. EDT, on August 1, 2013.

By the Commission.
Jill M. Peterson,
Assistant Secretary.

[FR Doc. 2013-17755 Filed 7-19-13; 11:15 am]

BILLING CODE 8011-01-P